DEPARTMENT OF LABOR

Employment and Training Administration

[TA-W-53,667]

Toro Irrigation, El Paso, TX; Notice of Termination of Investigation

Pursuant to section 221 of the Trade Act of 1974, investigation was initiated on November 28, 2003 in response to a petition filed by a company official at Toro Irrigation, El Paso, Texas.

The petitioner has asked that the petition be withdrawn. Consequently, further investigation would serve no purpose, and the investigation has been terminated.

Signed at Washington, DC this 12th day of January 2004.
Linda G. Poole,
Certifying Officer, Division of Trade Adjustment Assistance.

[FR Doc. 04-2603 Filed 2-5-04; 8:45 am]

BILLING CODE 4510-30-P